DEPARTMENT OF COMMERCE

International Trade Administration

[C-122-858]

Certain Softwood Lumber Products From Canada: Notice of Amended Final Results of Countervailing Duty Administrative Review; 2019; Correction

AGENCY: Enforcement and Compliance, International Trade Administration, Department of Commerce.

ACTION: Notice; correction.

SUMMARY: The Department of Commerce (Commerce) published a notice in the Federal Register of January 10, 2022, in which it issued the amended final results of the 2019 administrative review of the countervailing duty (CVD) order on certain softwood lumber products from Canada. This notice inadvertently omitted a company, Carter Forest Products Inc. (Carter), that was subject to the CVD review.

FOR FURTHER INFORMATION CONTACT: John Hoffner, AD/CVD Operations, Office III, Enforcement and Compliance, International Trade Administration, U.S. Department of Commerce, 1401 Constitution Avenue NW, Washington, DC 20230; telephone: (202) 482-3315.

SUPPLEMENTARY INFORMATION:

Correction

In the Federal Register of January 10, 2022, in FR Doc. 2022-00212, on page 1116 in the second column, Commerce did not list a company named “Carter Forest Products Inc.”

Background

On April 8, 2020, Commerce indicated in the Federal Register that Carter Forest Products Inc. (Carter) was a firm subject to the CVD administrative review on certain softwood lumber products from Canada covering the period of review (POR) of January 1, 2019, through December 31, 2019.¹ In the final results of the CVD administrative review covering the 2019 POR, Commerce inadvertently omitted Carter from Appendix II as being among the firms subject to the review that received the non-selected subsidy rate that Commerce applied to those firms not individually-examined.² Additionally, Commerce also omitted Carter in the appendix to the notice of Amended Final Results as being among the firms subject to the review that received the non-selected subsidy rate that Commerce applied to those firms not individually examined.³ With the issuance of this notice of correction, we confirm that Carter is included among the firms subject to the non-selected rate in CVD administrative review covering calendar year 2019.

¹ See Initiation of Antidumping and Countervailing Duty Administrative Reviews, 85 FR 19730, 19740 (April 8, 2020).

² See Certain Softwood Lumber Products from Canada: Final Results of the Countervailing Duty Administrative Review, 2019, 86 FR 68467, 68470 (December 2, 2021) (Final Results).

³ See Certain Softwood Lumber Products from Canada: Notice of Amended Final Results of the Countervailing Duty Administrative Review, 2019, 87 FR 1114 (January 10, 2022) (Amended Final Results).

Notification to Interested Parties

This notice is issued and published in accordance with sections 751(a)(1) and 777(i) of the Tariff Act of 1930, as amended.

Dated: January 19, 2022.
Ryan Majerus,
Deputy Assistant Secretary for Policy and Negotiations.

[FR Doc. 2022-01361 Filed 1-24-22; 8:45 am]

BILLING CODE 3510-DS-P